DEPARTMENT OF ENERGY

Federal Energy Regulatory Commission

[Project No. 13022-001]

Barren River Lake Hydro LLC; Notice of Intent To File License Application, Filing of Pre-Application Document, and Approving Use of the Traditional Licensing Process

a. Type of Filing: Notice of Intent to File License Application and Request To Use the Traditional Licensing Process.

b. Project No.: 13022-001

c. Dated Filed: July 1, 2011

d. Submitted By: Barren River Lake Hydro LLC

e. Name of Project: Barren River Lake Dam Hydroelectric Project

f. Location: On the Barren River, in Allen County, Kentucky. The project would occupy 18.3 acres of land, the majority of which are United States lands administered by the U.S. Army Corps of Engineers.

g. Filed Pursuant to: 18 CFR 5.3 of the Commission's regulations

h. Potential Applicant Contact: Brent Smith, Symbiotics LLC, 371 Upper Terrace, Suite 2, Bend, Oregon 97702; (541) 330-8779; e-mail—brent.smith@symbioticsenergy.com.

i. FERC Contact: Sarah Florentino at (202) 502-6863; or e-mail at sarah.florentino@ferc.gov.

j. Barren River Lake Hydro LLC filed its request to use the Traditional Licensing Process on July 1, 2011. Barren River Lake Hydro LLC provided public notice of its request on July 3, 2011. In a letter dated September 1, 2011, the Director of the Division of Hydropower Licensing approved Barren River Lake Hydro LLC's request to use the Traditional Licensing Process.

k. With this notice, we are initiating informal consultation with: (a) The U.S. Fish and Wildlife Service and/or NOAA Fisheries under section 7 of the Endangered Species Act and the joint agency regulations thereunder at 50 CFR, part 402; (b) NOAA Fisheries under section 305(b) of the Magnuson-Stevens Fishery Conservation and Management Act and implementing regulations at 50 CFR 600.920; and (c) the Kentucky State Historic Preservation Officer, as required by section 106, National Historical Preservation Act, and the implementing regulations of the Advisory Council on Historic Preservation at 36 CFR 800.2.

l. Barren River Hydro filed a Pre-Application Document (PAD; including a proposed process plan and schedule) with the Commission, pursuant to 18 CFR 5.6 of the Commission's regulations.

m. A copy of the PAD is available for review at the Commission in the Public Reference Room or may be viewed on the Commission's website (http://www.ferc.gov), using the “eLibrary” link. Enter the docket number, excluding the last three digits in the docket number field to access the document. For assistance, contact FERC Online Support at FERCONlineSupport@ferc.gov or toll free at 1-866-208-3676, or for TTY, (202) 502-8659. A copy is also available for inspection and reproduction at the address in paragraph h.

n. Register online at http://www.ferc.gov/docs-filing/esubscription.asp to be notified via e-mail of new filing and issuances related to this or other pending projects. For assistance, contact FERC Online Support.

Dated: September 1, 2011.
Kimberly D. Bose,
Secretary.

[FR Doc. 2011-23016 Filed 9-8-11; 8:45 am]

BILLING CODE 6717-01-P